CONSUMER PRODUCT SAFETY COMMISSION

Sunshine Act Meetings

TIME AND DATE: Wednesday, July 10, 2013, 10 a.m.-12 p.m.

PLACE: Room 420, Bethesda Towers, 4330 East West Highway, Bethesda, Maryland.

STATUS: Commission Meeting—Open to the Public

Matters To Be Considered:

Hearing: Agenda and Priorities for Fiscal Years 2014 and 2015

A live webcast of the Meeting can be viewed at www.cpsc.gov/live. For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: July 2, 2013.
Todd A. Stevenson,
Secretary.

[FR Doc. 2013-16420 Filed 7-3-13; 4:15 pm]

BILLING CODE 6355-01-P